OFFICE OF PERSONNEL MANAGEMENT

[OMB Number: 3206-0193]

Comment Request for Review of a Revised Information Collection: OPM Form 1417

AGENCY: Office of Personnel Management.

ACTION: Notice.

SUMMARY: In accordance with the Paperwork Reduction Act of 1995 (Pub. L. 104-13, May 22, 1995), this notice announces that the Office of Personnel Management (OPM) submitted to the Office of Management and Budget (OMB) a request for clearance of a revised information collection. OPM Online Form 1417, the Combined Federal Campaign (CFC) Information System form, collects information from the 247 local CFC campaigns to verify campaign results and collect contact information. Revisions to the form include clarifying edits to items numbered 2-6, 9 and 10 of the Campaign Results Total Page, the elimination of questions numbered 13-15 of the Campaign Results Total Page and the return of one question edited to collect pledge amounts designated specifically for federal emergency or disaster relief, if any, on the Campaign Results Total Page.

We estimate 247 online OPM Forms 1417 are completed annually. Each form takes approximately 20 minutes to complete. The annual estimated burden is 82.3 hours.

For copies of this proposal, contact Margaret A. Miller at (202) 606-2699 or FAX (202) 418-3251 or e-mail mamiller@opm.gov. Please be sure to include a mailing address with your request.

DATES: Comments on this proposal should be received within 30 calendar days from the date of this publication.

ADDRESSES: Send or deliver comments to—

Cherlynn Stevens,

Office of the Combined Federal Campaign,

U.S. Office of Personnel Management,

1900 E Street, NW., Room 5450,

Washington, DC 20415.

Brenda Aguilar,

OPM Desk Officer,

U.S. Office of Personnel Management,

OIRA,

Office of Management and Budget,

NEOB, NW.,

Room 10235,

Washington, DC 20503.

Howard Weizman,
Deputy Director.

[FR Doc. E8-18446 Filed 8-8-08; 8:45 am]

BILLING CODE 6325-46-P